DEPARTMENT OF DEFENSE

Department of the Army

Notice of Availability of the Draft Environmental Impact Statement (DEIS) for the Base Realignment and Closure (BRAC) 05 Realignment and Transformation Actions at Fort Benning, GA

AGENCY: Department of the Army, DoD.

ACTION: Notice of availability (NOA).

SUMMARY: The U.S. Army announces the availability of the DEIS, which evaluates the potential environmental and socioeconomic impacts of transformation activities at Fort Benning, Georgia. These transformation proposed actions include implementation of the 05 BRAC Commission recommendations, the Global Defense Posture Realignment (GDPR) overseas re-stationing actions, Army Modular Force (AMF) initiatives, and other discretionary stationing activities.

DATES: The public comment period for the DEIS will end 45 days after publication of an NOA in the Federal Register by the U.S. Environmental Protection Agency.

FOR FURTHER INFORMATION CONTACT: Ms. Monica Manganaro, Fort Benning Public Affairs Office at (706) 545-3438, or Mr. Brandon Cockrell at (706) 545-3210 during normal business hours.

SUPPLEMENTARY INFORMATION: The Proposed Action and subject of the DEIS covers the construction activities and movement of personnel associated with the BRAC actions, proposed transformation activities at Fort Benning, Georgia, and follow-on operations and training.

The 2005 BRAC Commission recommended the relocation of the Armor Center and School from Fort Knox, Kentucky, to Fort Benning, as well as several other unit relocations, which would increase the Fort Benning population by approximately 4,486 military and 1,226 civilian personnel, and an annual student/trainee population of approximately 8,357. Fort Benning also proposes to implement other transformation actions as the Army undergoes restructuring to meet the demands of the 21st century. The AMF initiative involves the Army's transition from a division-centric design to a standard brigade organization. The reshaping of the domestic military force structure also includes provision for the return of units currently based overseas to United States installations as part of the GDPR. Finally, discretionary stationing actions (activations, inactivations, realignments and relocations) are proposed, which contribute to and are interrelated with the transformation process.

The proposed action will provide the facilities, infrastructure, and equipment needed to support the transformation activities at Fort Benning. All construction activities associated with the proposed action would occur on Fort Benning. The proposed construction, renovation, and expansion of administrative, supply/storage, maintenance, barracks, commercial services, community facilities, medical and dental, and recreation facilities, as well as associated infrastructure support, is focused on the already-established cantonment areas: Main Post, Kelley Hill, Sand Hill, and Harmony Church. Throughout the cantonment areas, new facility construction will be sited to coincide with and/or be a complement to existing missions, facility operations, and functions. In order to minimize potential impacts to the environment (e.g., avoiding sensitive species habitat), existing infrastructure would be used to the greatest extent possible, and transformation activities would be located on previously distributed/developed areas. Training assets, in the form of ranges and maneuver areas, currently are found throughout the Installation. The proposed improvements/upgrades to existing ranges and maneuver areas and proposed new ranges were selected o align with these existing assets. Training range and maneuver area construction and operation/maintenance activities will occur on approximately 157,000 acres set aside for such activities.

In development of the DEIS, three alternatives were carried forward for analysis: (1) Transformation Alternative A, which entails cantonment area development, construction of small- and large-caliber weapons ranges, heavy maneuver areas and corridors, a driver's training course, off-road driver's training area, and vehicle recovery area to support the training range requirements; (2) Transformation Alternative B (the Army's Preferred Alternative), is similar to Transformation Alternative A with a combination of existing ranges and development of new tank training areas in the Good Hope area; and (3) the No Action Alternative, under which Fort Benning missions would continue as they were being performed in November 2005, when the BRAC Commission recommendations became law.

Environmental resources addressed in the DEIS include land use, aesthetics and visual resources, noise, socioeconomics, transportation, utilities, hazardous and toxic substances and waste, air quality, water resources, geology and soils, biological and cultural resources, and safety.

The DEIS analyses indicate that implementation of Alternative A would have significant impacts on transportation; biological resources (vegetation, aquatic habitats, wildlife, and special status species); and cultural resources. Implementation of Alternative B (the preferred alternative) would have no significant impacts to visual and aesthetic resources; socioeconomics (economic development, housing, quality of life, environmental justice); noise; air quality; hazardous and toxic materials and waste (hazardous material storage, use and handling; contaminated sites); water resources (surface water, hydrogeology/groundwater, floodplains, and wetlands); geology and soils; biological resources (Unique Ecological Areas); safety; land use; or utilities. Alternative locations for some of the projects as presented in Alternative B would provide similar impacts and benefits as Alternative A in all resources except for biological (special status species), where the impacts to the Red-cockaded Woodpecker would be substantially less, and cultural (archaeological sites), where impacts would be greater. The No Action alternative provides the environmental baseline conditions for comparison to the impacts associated with the action alternatives.

The Army invites the public, local governments, and state and other Federal agencies to submit written comments or suggestions concerning the alternatives and analyses addressed in the DEIS. The public and government agencies also are invited to participate in a public meeting where oral and written comments and suggestions will be received. The public meeting will be held on May 10, 2007 from 6 p.m. to 9 p.m. at the Columbus, Georgia Convention and Trade Center, 801 Front Avenue, Room 205. Copies of the DEIS will be available for review at several local libraries prior to the public meeting. The DEIS may also be reviewed electronically at: http://www.hqda.army.mil/acsim/brac/nepa_eis_docs.htm.

Please send written comments on the DEIS to: Mr. John Brent, Fort Benning Directorate of Public Works, Environmental Management Division, Bldg #6 (Meloy Hall), Room 310, Fort Benning, GA 31905. E-mail comments should be sent to: john.brent@benning.army.mil.

Dated: April 10, 2007.
Addison D. Davis, IV,
Deputy Assistant Secretary of the Army (Environment, Safety and Occupational Health).

[FR Doc. 07-1916 Filed 4-17-07; 8:45 am]

BILLING CODE 3710-08-M